DEPARTMENT OF COMMERCE

National Oceanic and Atmospheric Administration

50 CFR Part 660

[Docket No. 040830250-5109-04; I.D. 081304C]

RIN 0648-AS27

Magnuson-Stevens Act Provisions; Fisheries off the West Coast States and in the Western Pacific; Pacific Coast Groundfish Fishery; Groundfish Fishery; Biennial Specifications and Management Measures; Correction

AGENCY: National Marine Fisheries Service (NMFS), National Oceanic and Atmospheric Administration (NOAA), Commerce.

ACTION: Final rule; correction.

SUMMARY: This document contains a correction to the final rule establishing the 2005 fishery specifications for Pacific whiting in the U.S. exclusive economic zone that was published on May 3, 2005.

DATES: Effective May 16, 2005.

FOR FURTHER INFORMATION CONTACT: Becky Renko (NMFS, Northwest Region), 206-526-6140.

SUPPLEMENTARY INFORMATION: The specifications and management measures for the Pacific whiting fishery 2005 fishing year that were published in the Federal Register on May 3, 2005 (70 FR 22808), inadvertently contained Table 2b.

This document informs the public that the referenced Table should not have been published in this final rule.

Correction

In the rule FR Doc. 05-8817, in the issue of Tuesday, May 3, 2005 (70 FR 22808) make the following correction:

1. Remove Table 2b. from that final rule document.

Dated: May 6, 2005.
William T. Hogarth,
Assistant Administrator for Fisheries, National Marine Fisheries Service.

[FR Doc. 05-9547 Filed 5-13-05; 8:45 am]

BILLING CODE 3510-22-S